ENVIRONMENTAL PROTECTION AGENCY

40 CFR Part 63

[Docket ID No. OAR-2003-0178; FRL-7554-3]

RIN 2060-AK59

National Emission Standards for Hazardous Air Pollutants: Miscellaneous Coating Manufacturing

Correction

In rule document 03-22928 beginning on page 69164 in the issue of Thursday, December 11, 2003, make the following correction:

§63.7995 [Corrected]

On page 69186, in §63.7995(b), in the final line, the date “December 11, 2005,” should read, “December 11, 2006.”

[FR Doc. C3-22928 Filed 12-24-03; 8:45 am]

BILLING CODE 1505-01-D

ENVIRONMENTAL PROTECTION AGENCY

40 CFR Part 81

[FRL-7599-7]

RIN 2060-AL85

Deferral of Effective Date of Nonattainment Designations for 8-Hour Ozone National Ambient Air Quality Standards for Early Action Compact Areas

Correction

In proposed rule document 03-31109 beginning on page 70108 in the issue of Tuesday, December 16, 2003, make the following correction:

On page 70119, in the third column, the signature date of “November 11, 2003” should read, “December 11, 2003”.

[FR Doc. C3-31109 Filed 12-24-03; 8:45 am]

BILLING CODE 1505-01-D